DEPARTMENT OF JUSTICE

Antitrust Division

Notice Pursuant to the National Cooperative Research and Production Act of 1993—National Biodiesel Accreditation Commission

Notice is hereby given that, on January 3, 2007, pursuant to Section 6(a) of the National Cooperative Research and production Act of 1993, 15 U.S.C. 4301 et seq. (“the Act”), National Biodiesel Accreditation Commission (“NBAC”) has filed written notifications simultaneously with the Attorney General and the Federal Trade Commission disclosing additions or change to it standards development activities. the notifications were filed for the purpose of extending the Act's provisions limiting the recovery of antitrust plaintiffs to actual damage under specified circumstances. Specifically, NBAC has amended various aspects of its BQ-9000 standard in several ways, including but not limited to: Lengthening the certification period; requiring an annual surveillance audit; requiring six months of full operation before an applicant may apply; amending the requirements of a desk audit; requiring the applicant to maintain a Document Status form; to track amendments to applicant's Quality Manual; lengthening the period of required recordkeeping; and separating the marketer and producer standards.

On August 27, 2004, NBAC filed its original notification pursuant to Section 6(a) of the Act. The Department of Justice published a notice in Federal Register pursuant to Section 6(b) of the act on October 4, 2004 (69 FR 59269).

Patricia A. Brink,
Deputy Director of Operations, Antitrust Division.

[FR Doc. 07-314 Filed 1-24-07; 8:45 am]

BILLING CODE 4410-11-M